RAILROAD RETIREMENT BOARD

Agency Forms Submitted for OMB Review, Request for Comments

In accordance with the Paperwork Reduction Act of 1995 (44 U.S.C. chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Evidence of Marital Relationship—Living with Requirements; OMB 3220-0021.

Under Sections 2(c) or 2(d) (45 U.S.C. 231a) of the Railroad Retirement Act, an applicant must submit proof of a valid marriage to a railroad employee. In some cases, the existence of a marital relationship is not formalized by a civil or religious ceremony. In other cases, questions may arise about the legal termination of a prior marriage of the employee, spouse, or widow(er). In these instances, the RRB must secure additional information to resolve questionable marital relationships. The circumstances requiring an applicant to submit documentary evidence of marriage are prescribed in 20 CFR 219.30.

The RRB utilizes Forms G-124, Individual Statement of Marital Relationship; G-124a, Certification of Marriage Information; G-237, Statement Regarding Marital Status; G-238, Statement of Residence; and G-238a, Statement Regarding Divorce or Annulment, to secure the needed information. Forms G-124, G-237, G-238, and G-238a can be completed either with assistance from RRB personnel during an in-office interview or by mail. One response is requested of each respondent. Completion is required to obtain benefits.

Previous Requests for Comments: The RRB has already published the initial 60-day notice (84 FR 48381 on September 13, 2019) required by 44 U.S.C 3506(c)(2). That request elicited no comments.

Information Collection Request (ICR)

Title: Evidence of Martial Relationship—Living with Requirements.

OMB Control Number: 3220-0021.

Forms submitted: G-124, G-124a, G-237, G-238 and G-238a.

Type of request: Revision of a currently approved collection.

Affected public: Individuals or Households; Business or other for Profit.

Abstract: Under the RRA, to obtain a benefit as a spouse of an employee annuitant or as the widow(er) of the deceased employee, an applicant must submit information to be used to determine if the marriage requirements for such benefits have been met. The collection obtains information supporting claimed common-law marriage, termination of previous marriages, and residency requirements.

Changes proposed: The RRB proposes minor non-burden impacting changes to the forms in the collection.

The burden estimate for the ICR is as follows:

Form No. | Annual responses | Time (minutes) | Burden (hours)
G-124 (in person) | 125 | 15 | 31
G-124 (by mail) | 75 | 20 | 25
G-124a | 300 | 10 | 50
G-237 (in person) | 75 | 15 | 19
G-237 (by mail) | 75 | 20 | 25
G-238 (in person) | 150 | 3 | 8
G-238 (by mail) | 150 | 5 | 13
G-238a | 150 | 10 | 25
Total | 1,100 |  | 196

2. Title and Purpose of information collection: Medical Reports; OMB 3220-0038.

Under sections 2(a)(1)(iv) and 2(a)(1)(v) of the Railroad Retirement Act (RRA) (45 U.S.C.231a), annuities are payable to qualified railroad employees whose physical or mental condition makes them unable to (1) work in their regular occupation (occupational disability) or (2) work at all (total disability). The requirements for establishing disability and proof of continuing disability under the RRA are prescribed in 20 CFR 220.

Annuities are also payable to (1) qualified spouses and widow(ers) under sections 2(c)(1)(ii)(C) and 2(d)(1)(ii) of the RRA who have a qualifying child who became disabled before age 22; (2) surviving children on the basis of disability under section 2(d)(1)(iii)(C), if the child's disability began before age 22; and (3) widow(er)s on the basis of disability under section 2(d)(1)(i)(B). To meet the disability standard, the RRA provides that individuals must have a permanent physical or mental condition that makes them unable to engage in any regular employment.

Under section 2(d)(1)(v) of the RRA, annuities are also payable to remarried widow(er)s and surviving divorced spouses on the basis of, among other things, disability or having a qualifying disabled child in care. However, the disability standard in these cases is that found in the Social Security Act. That is, individuals must be unable to engage in any substantial gainful activity by reason of any medically determinable physical or mental impairment. The RRB also determines entitlement to a Period of Disability and entitlement to early Medicare based on disability for qualified claimants in accordance with Section 216 of the Social Security Act.

When making disability determinations, the RRB needs evidence from acceptable medical sources. The RRB currently utilizes Forms G-3EMP, Report of Medical Condition by Employer; G-197, Authorization to Disclose Information to the Railroad Retirement Board; G-250, Medical Assessment; G-250A, Medical Assessment of Residual Functional Capacity; G-260, Report of Seizure Disorder; RL-11B, Disclosure of Hospital Medical Records; RL-11D, Disclosure of Medical Records from a State Agency; RL-11D1, Request for Medical Evidence from Employers, and RL-250, Request for Medical Assessment, to obtain the necessary medical evidence. One response is requested of each respondent. Completion is required for all forms to obtain benefits except Form RL-11D1, which is voluntary.

Previous Requests for Comments: The RRB has already published the initial 60-day notice (84 FR on September 18, 2019) required by 44 U.S.C. 3506(c)(2). That request elicited no comments.

Information Collection Request (ICR)

Title: Medical Reports.

OMB Control Number: 3220-0038.

Form(s) submitted: G-3EMP, G-197, G-250, G-250a, G-260, RL-11B, RL-11D, RL-11D1, and RL-250.

Type of request: Revision of a currently approved collection of information.

Affected public: Individuals or households; Private Sector; State, Local and Tribal Government.

Abstract: The Railroad Retirement Act provides disability annuities for qualified railroad employees whose physical or mental condition renders them incapable of working in their regular occupation (occupational disability) or any occupation (total disability). The medical reports obtain information needed for determining the nature and severity of the impairment.

Changes proposed: In support of the RRB's Disability Program Improvement Project to enhance/improve disability case processing and overall program integrity, the RRB proposes the addition of proposed Form RL-11D1, Request for Medical Evidence from Employers, to the information collection. Form RL-11D1 will be mailed by an RRB field office to railroad employers to obtain any medical evidence regarding the employee's disability that they may have acquired within the last 18 months. A copy of the employee signed Form G-197 will be enclosed with the RL-11D1. The employer will return the RL-11D1 to RRB Headquarters certifying that they either have submitted the requested medical evidence or that they have no medical evidence to submit.

The burden estimate for the ICR is as follows:

Form No. | Annual responses | Time (minutes) | Burden (hours)
G-3EMP | 600 | 10 | 100
G-197 | 6,000 | 10 | 1,000
G-250 | 11,950 | 30 | 5,975
G-250A | 50 | 20 | 17
G-260 | 100 | 25 | 42
RL-11B | 5,000 | 10 | 833
RL-11D | 250 | 10 | 42
RL-11D1 | 600 | 20 | 200
RL-250 | 11,950 | 10 | 1,992
Total | 36,500 |  | 10,201

3. Title and purpose of information collection: Application to Act as Representative Payee; OMB 3220-0052.

Under Section 12 of the Railroad Retirement Act, the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR 266. The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Benefits, obtains information about an annuitant's capability to manage their own benefits. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that are kept by representative payees as part of a common business practice. Completion is voluntary. One response is requested of each respondent.

Previous Requests for Comments: The RRB has already published the initial 60-day notice (84 FR 48381 on September 13, 2019) required by 44 U.S.C. 3506(c)(2). That request elicited no comments.

Information Collection Request (ICR)

Title: Application to Act as Representative Payee.

OMB Control Number: 3220-0052.

Forms submitted: AA-5, G-478, and RB-5.

Type of request: Extension without change of a currently approved collection.

Affected public: Individuals or Households; Business or other for Profit.

Abstract: Under Section 12 of the Railroad Retirement Act, the Railroad Retirement Board (RRB) may pay benefits to a representative payee when an employee, spouse or survivor annuitant is incompetent or is a minor. The collection obtains information related to the representative payee application, supporting documentation and the maintenance of records pertaining to the receipt and use of benefits.

Changes proposed: The RRB is proposing no changes to Forms AA-5, G-478, and the RB-5 booklet.

The burden estimate for the ICR is as follows:

Form No. | Annual responses | Time (minutes) | Burden (hours)
AA-5 | 3,000 | 18 | 900.0
Individuals | 2,250 |  | 675.0
Institutions | 750 |  | 225.0
G-478 | 2,000 | 6 | 200.0
RB-5 | 15,300 | 60 | 15,300
Individuals | 11,475 |  | 11,475
Institutions | 3,825 |  | 3,825
Total | 20,300 |  | 16,350

4. Title and purpose of information collection: Employer Service and Compensation Reports; OMB 3220-0070.

Section 2(c) of the Railroad Unemployment Insurance Act (RUIA) specifies the maximum normal unemployment and sickness benefits that may be paid in a benefit year. Section 2(c) further provides for extended benefits for certain employees and for beginning a benefit year early for other employees. The conditions for these actions are prescribed in 20 CFR 302.

All information about creditable railroad service and compensation needed by the RRB to administer Section 2(c) is not always available from annual reports filed by railroad employers with the RRB (OMB 3220-0008). When this occurs, the RRB must obtain supplemental information about service and compensation.

The RRB utilizes Form UI-41, Supplemental Report of Service and Compensation, and Form UI-41a, Supplemental Report of Compensation, to obtain the additional information about service and compensation from railroad employers. Completion of the forms is mandatory. One response is required of each respondent.

Previous Requests for Comments: The RRB has already published the initial 60-day notice (84 FR 48381 on September 13, 2019) required by 44 U.S.C. 3506(c)(2). That request elicited no comments.

Information Collection Request (ICR)

Title: Employer Service and Compensation Reports.

OMB Control Number: 3220-0070.

Forms submitted: UI-41 and UI-41a.

Type of request: Revision of a currently approved collection.

Affected public: Private Sector; Businesses or other for profits.

Abstract: The reports obtain the employee's service and compensation for a period subsequent to those already on file and the employee's base year compensation. The information is used to determine the entitlement to and the amount of benefits payable.

Changes proposed: The RRB proposes minor non-burden impacting changes to Form UI-41a.

The burden estimate for the ICR is as follows:

Form No. | Annual responses | Time (minutes) | Burden (hours)
UI-41 | 100 | 8 | 13
UI-41a | 50 | 8 | 7
Total | 150 |  | 20

5. Title and purpose of information collection: Repayment of Debt; OMB 3220-0169. When the Railroad Retirement Board (RRB) determines that an overpayment of Railroad Retirement Act or Railroad Unemployment Insurance Act benefits has occurred, it initiates prompt action to notify the annuitant of the overpayment and to recover the money owed the RRB. To effect payment of a debt by credit card, the RRB utilizes Form G-421F, Repayment by Credit Card. The RRB's procedures pertaining to benefit overpayment determinations and the recovery of such benefits are prescribed in 20 CFR 255 and 340.One form is completed by each respondent. Completion is voluntary.

Previous Requests for Comments: The RRB has already published the initial 60-day notice (84 FR 48381 on September 13, 2019) required by 44 U.S.C. 3506(c)(2). That request elicited no comments.

Information Collection Request (ICR)

Title: Repayment of Debt.

OMB Control Number: 3220-0169.

Form(s) submitted: G-421F.

Type of request: Extension without change of a currently approved collection.

Affected public: Individuals or Households.

Abstract: When the RRB determines that an overpayment of benefits under the Railroad Retirement Act or Railroad Unemployment Insurance Act has occurred, it initiates action to notify the claimant of the overpayment and to recover the amount owed. The collection obtains information needed to allow for repayment by the claimant by credit card, in addition to the customary form of payment by check or money order.

Changes proposed: The RRB proposes no changes to Form G-421F.

The burden estimate for the ICR is as follows:

Form No. | Annual responses | Time (minutes) | Burden (hours)
Form G-421F (RRA) activity | 360 | 5 | 30
Form G-421F (RUIA) activity | 175 | 5 | 15
Total | 535 |  | 45

6. Title and purpose of information collection: Customer Satisfaction Monitoring; OMB 3220-0192.

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval.

Previous Requests for Comments: The RRB has already published the initial 60-day notice (84 FR 48381 September 13, 2019) required by 44 U.S.C. 3506(c)(2). That request elicited no comments.

Information Collection Request (ICR)

Title: Customer Satisfaction Monitoring.

OMB Control Number: 3220-0192.

Form(s) submitted: G-201.

Type of request: Extension without change of a currently approved collection.

Affected public: Individuals or Households.

Abstract: The Railroad Retirement Board (RRB) utilizes voluntary customer surveys to ascertain customer satisfaction with the RRB in terms of timeliness, appropriateness, access, and other measures of quality service. Surveys involve individuals that are direct or indirect beneficiaries of RRB services as well as railroad employers who must report earnings.

Changes proposed: The RRB proposes no changes to Form G-201.

Form No. | Annual responses | Time (minutes) | Burden (hours)
G-201 | 50 | 2 | 2
Web-Site Survey | 300 | 5 | 25
Periodic Survey | 1,020 | 12 | 204
Focus Groups | 250 | 120 | 500
Total | 1,620 |  | 731

Additional Information or Comments: Copies of the forms and supporting documents can be obtained from Kennisha Tucker at (312) 469-2591 or Kennisha.Tucker@rrb.gov.

Comments regarding the information collection should be addressed to Brian Foster, Railroad Retirement Board, 844 North Rush Street, Chicago, Illinois 60611-1275 or Brian.Foster@rrb.gov and to the OMB Desk Officer for the RRB, Fax: 202-395-6974, Email address: OIRA_Submission@omb.eop.gov.

Stephanie Hillyard,
Secretary to the Board.

[FR Doc. 2019-25497 Filed 11-22-19; 8:45 am]

BILLING CODE 7905-01-P